DEPARTMENT OF COMMERCE

National Oceanic and Atmospheric Administration

RIN 0648-XD146

Atlantic Highly Migratory Species; Meeting of the Atlantic Highly Migratory Species Advisory Panel

AGENCY: National Marine Fisheries Service (NMFS), National Oceanic and Atmospheric Administration (NOAA), Commerce.

ACTION: Notice of public meeting and webinar/conference call.

SUMMARY: NMFS will hold a 2-day Atlantic Highly Migratory Species (HMS) Advisory Panel (AP) meeting in April 2014. The intent of the meeting is to consider options for the conservation and management of Atlantic HMS. The meeting is open to the public.

DATES: The AP meeting and webinar will be held from 10:30 a.m. to 5:30 p.m. on Thursday, April 3; and from 8:30 a.m. to 3:00 p.m. on Friday, April 4, 2014.

ADDRESSES: The meeting will be held at the Sheraton Hotel, 8777 Georgia Avenue, Silver Spring, MD 20910. The meeting presentations will also be available via WebEx webinar/conference call. On Thursday April 3, 2014, the conference call information is phone number 650-479-3207; participant access code 996 262 930; and the webinar event address is: https://noaaevents2.webex.com/noaaevents2/onstage/g.php?d=996262930&t=a

On Friday April 4, 2014, the conference call information is phone number 650-479-3207; participant access code 996 407 950; and the webinar event address is: https://noaaevents2.webex.com/noaaevents2/onstage/g.php?d=996407950&t=a

Participants are strongly encouraged to log/dial in fifteen minutes prior to the meeting. NMFS will show the presentations via webinar and allow public comment during identified times on the agenda.

FOR FURTHER INFORMATION CONTACT: Jenni Wallace or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); Amendments 1, 2, 3, 4, 5a, 5b, 6, 7, and 8 to the Consolidated HMS FMP (April and October 2008, February and September 2009, May and September 2010, April and September 2011, March and September 2012, and January and September 2013); among other things.

At the April 2014 AP meeting, NMFS plans to discuss pre-drafts to the 2006 Consolidated HMS Fishery Management Plan (FMP) for Amendment 5b on dusky shark management measures and Amendment 6 on the future of shark fishery, as well as reviewing public comments on Draft Amendment 7 on bluefin tuna management measures. The meeting will also include progress updates on implementation of 2013 ICCAT recommendations, the HMS Research Plan, smoothhound shark management, and recreational issues for Atlantic HMS fisheries.

Additional information on the meeting and a copy of the draft agenda will be posted prior to the meeting at: http://www.nmfs.noaa.gov/sfa/hms/Advisory%20Panels/Advisory_Panel.htm.

Special Accommodations

This meeting is physically accessible to people with disabilities. Requests for sign language interpretation or other auxiliary aids should be directed to Jenni Wallace at (301) 427-8503 at least 7 days prior to the meeting.

Dated: March 11, 2014.
Emily H. Menashes,
Acting Director, Office of Sustainable Fisheries, National Marine Fisheries Service.

[FR Doc. 2014-05704 Filed 3-13-14; 8:45 am]

BILLING CODE 3510-22-P